DEPARTMENT OF HEALTH AND HUMAN SERVICES

Indian Health Service

Organization, Functions, And Delegations of Authority; Part G, Office of Environmental Health and Engineering

AGENCY: Indian Health Service, Department of Health and Human Services.

ACTION: Final notice.

SUMMARY: This Notice advises the public that the Indian Health Service (IHS) proposes Part G, of the Statement of Organization, Functions, and Delegations of Authority of the Department of Health and Human Services (HHS), as amended May 6, 2005, July 1, 2010, and November 5, 2014, and most recently as amended December 26, 2018 is hereby amended to reflect additions of Standard Administrative Codes to better reflect the structure of the Indian Health Service (IHS) Office of Environmental Health and Engineering (OEHE), Division of Sanitation Facilities Construction (DSFC) program. The IHS is establishing these Standard Administrative Codes to improve granularity of the human resource data to allow better identification of Sanitation Facilities Construction (SFC) Program staff within the human resource data system. There will be no change in function or reporting relationships.

SUPPLEMENTARY INFORMATION:

Great Plains Area—GFA

Div of Sanitation FAC Construction—Minot District—GFAAC11

Div of Sanitation FAC Construction—Mobridge Field Office—GFAAC111

Div of Sanitation FAC Construction—Belcourt Field Office—GFAAC112

Div of Sanitation FAC Construction—Pierre District—GFAAC12

Div of Sanitation FAC Construction—Eagle Butte Field Office—GFAAC121

Div of Sanitation FAC Construction—Martin Field Office—GFAAC122

Div of Sanitation FAC Construction—Sioux City District—GFAAC13

Div of Sanitation FAC Construction—Sisseton Field Office—GFAAC131

Div of Sanitation FAC Construction—Rosebud Field Office—GFAAC132

Albuquerque Area—GFC

Div of Sanitation FAC Construction—Albuquerque District—GFC421

Div of Sanitation FAC Construction—Mescalero Field Office—GFC4211

Div of Sanitation FAC Construction—Santa Fe District—GFC422

Div of Sanitation FAC Construction—Durango Field Office—GFC4221

Bemidji Area—GFE

Div of Sanitation FAC Construction—Bemidji Area—GFE2AA

Div of Sanitation FAC Construction—Minnesota District—GFE2AA1

Div of Sanitation FAC Construction—Duluth Field Office—GFE2AA11

Div of Sanitation FAC Construction—Rhinelander District—GFE2AA2

Div of Sanitation FAC Construction—Sault Ste Marie Field Office—GFE2AA21

Div of Sanitation FAC Construction—Traverse City Field Office—GFE2AA22

Billings Area—GFF

Div of Sanitation FAC Construction—Browning Field Office—GFF931

Div of Sanitation FAC Construction—Crow Agency Field Office—GFF932

Div of Sanitation FAC Construction—Lame Deer Field Office—GFF933

Div of Sanitation FAC Construction—Wolf Point Field Office—GFF934

Div of Sanitation FAC Construction—Fort Washakie Field Office—GFF935

Div of Sanitation FAC Construction—Fort Belknap Field Office—GFF936

Nashville Area—GFH

Div of Sanitation FAC Construction—Nashville Area—GFH2A

Div of Sanitation FAC Construction—Manlius District—GFH2A1

Div of Sanitation FAC Construction—Lockport Field Office—GFH2A11

Div of Sanitation FAC Construction—Atmore Field Office—GFH2A2

Div of Sanitation FAC Construction—Bangor Field Office—GFH2A3

Div of Sanitation FAC Construction—Catawba Field Office—GFH2A4

Div of Sanitation FAC Construction—Charles City Field Office—GFH2A5

Div of Sanitation FAC Construction—Mashpee Field Office—GFH2A6

Div of Sanitation FAC Construction—Opelousas Field Office—GFH2A7

Navajo Area—GFJ

Div of Sanitation FAC Construction—Fort Defiance District—GFJ4B1

Div of Sanitation FAC Construction—Many Farms Field Office—GFJ4B11

Div of Sanitation FAC Construction—Gallup District—GFJ4B2

Div of Sanitation FAC Construction—Crownpoint Field Office—GFJ4B21

Div of Sanitation FAC Construction—Shiprock District—GFJ4B3

Div of Sanitation FAC Construction—Farmington Field Office—GFJ4B31

Div of Sanitation FAC Construction—Tuba City District—GFJ4B4

Div of Sanitation FAC Construction—Kayenta Field Office—GFJ4B41

Div of Sanitation FAC Construction—Tuba City Field Office—GFJ4B42

Div of Sanitation FAC Construction—Winslow Field Office—GFJ4B43

Oklahoma City Area—GFK

Div of Sanitation FAC Construction—Oklahoma City Area—GFK34

Div of Sanitation FAC Construction—Clinton Field Office—GFK34B

Div of Sanitation FAC Construction—Holton Field Office—GFK34C

Div of Sanitation FAC Construction—Lawton Field Office—GFK34D

Div of Sanitation FAC Construction—Pawnee Field Office—GFK34E

Div of Sanitation FAC Construction—Shawnee Field Office—GFK34G

Div of Sanitation FAC Construction—Miami Field Office—GFK34H

Div of Sanitation FAC Construction—Okmulgee Field Office—GFK34J

Phoenix Area—GFL

Div of ENV Health Services—IEH—GFL52IE

Div of ENV Health Services—IP—GFL52IP

Div of ENV Health Services—Eastern Arizona District—GFL52E

Div of ENV Health Services—Keams Canyon Service Unit—GFL52E1

Div of ENV Health Services—San Carlos Service Unit—GFL52E2

Div of ENV Health Services—White River Service Unit—GFL52E3

Div of ENV Health Services—Reno District—GFL52R

Div of ENV Health Services—Elko Service Unit—GFL52R1

Div of ENV Health Services—Uintah-Ouray Service Unit—GFL52R2

Div of ENV Health Services—Western Arizona District—GFL52W

Div of ENV Health Services—Colorado River Service Unit—GFL52W1

Div of ENV Health Services—Fort Yuma Service Unit—GFL52W2

Div of Facilities Management—Design and Construction Branch—GFL53DC

Div of Facilities Management—Operations Branch—GFL53FM

Div of Sanitation FAC Construction—Eastern Arizona District—GFL54E

Div of Sanitation FAC Construction—Keams Canyon Service Unit—GFL54E1

Div of Sanitation FAC Construction—San Carlos Service Unit—GFL54E2

Div of Sanitation FAC Construction—White River Service Unit—GFL54E3

Div of Sanitation FAC Construction—Reno District—GFL54R

Div of Sanitation FAC Construction—Elko Service Unit—GFL54R1

Div of Sanitation FAC Construction—Uintah-Ouray Service Unit—GFL54R2

Div of Sanitation FAC Construction—Western Arizona District—GFL54W

Div of Sanitation FAC Construction—Colorado River Service Unit—GFL54W1

Div of Sanitation FAC Construction—Fort Yuma Service Unit—GFL54W2

Portland Area—GFM

Div of Sanitation FAC Construction—Portland Area—GFM52

Div of Sanitation FAC Construction—Western Oregon District—GFM52A

Div of Sanitation FAC Construction—Warm Springs Field Office—GFM52A1

Div of Sanitation FAC Construction—Yakama Field Office—GFM52A2

Div of Sanitation FAC Construction—Olympic District—GFM52B

Div of Sanitation FAC Construction—Port Angeles Field Office—GFM52B1

Div of Sanitation FAC Construction—Spokane District—GFM52C

Div of Sanitation FAC Construction—Fort Hall Field Office—GFM52C1

Tucson Area—GFN

Div of Sanitation FAC Construction—Tucson Area/District—GFNADA

Div of Sanitation FAC Construction—Casa Grande Field Office—GFNADA1

Roselyn Tso,
Director, Indian Health Service.

[FR Doc. 2024-16620 Filed 7-29-24; 8:45 am]

BILLING CODE 4166-14-P